DEPARTMENT OF HOMELAND SECURITY

Agreement Between the U.S. Department of Homeland Security and the U.S. Department of State and the Paraguayan National Commission for Stateless Persons and Refugees

AGENCY: Department of Homeland Security.

ACTION: Notice of agreement.

SUMMARY: The Department of Homeland Security is publishing the Memorandum of Understanding Between the U.S. Department of Homeland Security and the U.S. Department of State, on the one side, and the Paraguayan National Commission for Stateless Persons and Refugees, on the other side, for Cooperation in the Examination of Protection Requests, signed at Washington on August 14, 2025. The text is set out below.

Joseph N. Mazzara,
Acting General Counsel, U.S. Department of Homeland Security.

BILLING CODE 9110-9M-P

[FR Doc. 2025-23797 Filed 12-19-25; 4:15 pm]

BILLING CODE 9110-9M-C